DEPARTMENT OF THE INTERIOR

Fish and Wildlife Service

[FWS-R1-NWRS-2024-N042; FXRS12610100000-256-FF01R07000]

Mariana Arc of Fire National Wildlife Refuge and Mariana Trench Marine National Monument; Corrections

AGENCY: Fish and Wildlife Service, Interior.

ACTION: Notice of correction.

SUMMARY: We, the U.S. Fish and Wildlife Service, announce corrections to the spelling of the Mariana Trench Marine National Monument and to the coordinates of geographic features (hydrothermal vent fields) within the Mariana Arc of Fire National Refuge. This notice corrects the spelling “Marianas Trench Marine National Monument” to “Mariana Trench Marine National Monument” for consistency in official documents and other publications. It also makes corrections to coordinates of hydrothermal vent fields. This will ensure proper mapping and data management and facilitate enforcement of protections within the Refuge boundaries. These corrections are nonsubstantive.

DATES: These corrections are effective April 4, 2025.

ADDRESSES: Background documents, including the 2009 Presidential proclamation establishing the Monument, the 2011 Federal Register notice announcing the Service's and the National Oceanic and Atmospheric Administration's (NOAA's) intent to prepare a draft monument management plan (MMP), and the 2020 draft MMP, which was announced for public comment in 2021, are available at https://www.regulations.gov in Docket No. NOAA-NMFS-2021-0003. However, the agencies are no longer taking comments on these documents. The final environmental assessment (EA) is available at https://www.fws.gov/national-monument/mariana-trench-marine.

FOR FURTHER INFORMATION CONTACT: Sean Macduff, Superintendent, Mariana Trench Marine National Monument, by phone at 670-234-7207, extension 4003, or by email at sean_macduff@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We are correcting the spelling of the Mariana Trench Marine National Monument and the coordinates of geographic features (hydrothermal vent fields) within the Mariana Arc of Fire National Refuge. This notice corrects the spelling “Marianas Trench Marine National Monument” to “Mariana Trench Marine National Monument” for consistency in official documents and other publications. It also makes corrections to coordinates of hydrothermal vent fields. This will ensure proper mapping and data management and facilitate enforcement of protections within the Refuge boundaries. The corrections make no substantive changes to existing regulations and do not expand or otherwise alter the size of the Monument.

As the lead Federal agency for promulgation of fisheries regulations, NOAA will publish the corrected Monument name and Refuge coordinates as part of updating fisheries regulations for the Mariana Trench Marine National Monument.

Background

The Mariana Trench Marine National Monument was established by Presidential Proclamation 8335 (Proclamation), signed by President George W. Bush on January 6, 2009 (74 FR 1557, January 12, 2009). The Secretaries of the Interior and Commerce (Secretaries) share responsibility for managing the Monument. The Proclamation required the Secretaries to prepare management plans within their respective authorities and promulgate implementing regulations to address specific actions necessary for the proper care and management of the Monument.

On April 5, 2011, the Service and NOAA published a Federal Register notice announcing the intent to prepare a draft monument management plan (MMP) for the Monument (76 FR 18773). The MMP would also satisfy the Service's comprehensive conservation plan (CCP) requirements for two units of the National Wildlife Refuge System (NWRS) within the Monument. In the notice, the Service and NOAA requested suggestions and information on the scope of issues to consider during the planning process and announced that, under the National Environmental Policy Act (42 U.S.C. 4321 et seq.), an EA to evaluate the potential effects of various management alternatives would be prepared. The EA would provide resource managers with the information needed to determine whether the potential effects may be significant and warrant preparation of an environmental impact statement, or if the potential impacts would lead to a finding of no significant impact (FONSI).

On February 24, 2021, the Service and NOAA published a Federal Register notice announcing the availability of the draft MMP and EA (86 FR 11238). The draft MMP included elements similar to a NWRS CCP, and the agencies conducted the planning process for those elements in a manner similar to the CCP planning and public involvement process. The National Wildlife Refuge System Administration Act of 1966 (Refuge Administration Act; 16 U.S.C. 668dd-668ee), as amended by the National Wildlife Refuge System Improvement Act of 1997, requires the Service to develop a CCP for each national wildlife refuge. The draft MMP incorporated CCP requirements and defined each agency's management roles and responsibilities. The draft MMP included an EA of the potential impacts of the MMP on the human environment. The draft MMP, EA, and public comments received on the documents were made publicly available at https://www.regulations.gov in Docket No. NOAA-NMFS-2021-0003. The comment period ended on May 25, 2021; however, on May 24, 2021, the agencies published a notice extending the comment period by 60 days, through July 26, 2021 (86 FR 27834).

Subsequently, the Service and NOAA were made aware of nonsubstantive errors in the draft MMP. The Service publishes this notice to announce corrections. The Service originally published maps for the Mariana Arc of Fire National Wildlife Refuge and the Mariana Trench Marine National Monument in accordance with a map accompanying the Proclamation. (The map made available with the Proclamation is available at https://www.govinfo.gov/content/pkg/FR-2009-01-12/pdf/E9-496.pdf.) Upon review of the draft MMP, deep sea researchers noticed that some of the coordinates for Monument features (hydrothermal vent fields) did not match published coordinates in the scientific literature. This notice corrects those errors. This action also makes corrections to the spelling of Mariana Trench for consistency in future publications.

These corrections will ensure proper mapping and facilitate enforcement of protections within the Refuge boundaries. These corrections make no substantive changes to existing regulations and do not expand or otherwise alter the size of the monument.

In June 2024, the Service and NOAA, along with the Commonwealth of the Northern Mariana Islands (CNMI), announced the availability of the final EA, with an MMP as an appendix, which describes goals, objectives, and strategies for managing the Monument over a 15-year period. These corrections were incorporated in the final MMP. You may obtain a copy of the MMP and EA at https://www.fws.gov/national-monument/mariana-trench-marine.

Corrections

Mariana Arc of Fire National Wildlife Refuge—Coordinates Corrections

The Mariana Arc of Fire National Wildlife Refuge (Refuge; formerly known as the “Volcanic Unit” or “Vents Unit”) is one of three units of the Mariana Trench Marine National Monument. The Refuge comprises 21 hydrothermally active submarine volcanoes and hydrothermal vent fields. The boundaries of the Refuge are made up of circles drawn with a 1-nautical-mile radius centered on each of the 16 submarine volcanoes and 5 hydrothermal vent fields. Only the submerged lands and features within each of the 21 circles are included in the Refuge (not the overlying water column). Errors were made in the table of coordinates on the map accompanying the Proclamation and in subsequent publications. Consequently, the coordinates for Alice Springs and Mariana Central Trough vent fields do not match the descriptions in scientific literature or in the most recent sonar mapping and remotely operated vehicle (ROV) dives at the sites.

The authoritative source for the positions of the Alice Springs and Mariana Central Trough vent fields is the InterRidge Vent Database, a database of all the known active hydrothermal vents in the world. It is downloadable as a standalone database here:

Beaulieu, S.E., and K.M. Szafrański (2020). InterRidge Global Database of Active Submarine Hydrothermal Vent Fields Version 3.4. PANGAEA. Accessible at https://doi.pangaea.de/10.1594/PANGAEA.917894.

The database is described in this journal publication:

Beaulieu, S.E., E.T. Baker, C.R. German, and A. Maffei (2013). An authoritative global database for active submarine hydrothermal vent fields. Geochemistry, Geophysics, Geosystems 14(11): 4892-4905.

The correct coordinates for the Alice Springs vent field are 18.2103° N, 144.7073° E (https://vents-data.interridge.org/ventfield/alice-springs-field). The correct coordinates of the Mariana Central Trough vent field are 18.0467° N, 144.7533° E (https://vents-data.interridge.org/ventfield/mariana-trough-central-trough). These coordinates are recorded in the InterRidge Vent Database and are consistent with the earlier published scientific papers based on the vent fields initial discovery during Alvin submersible dives in 1987.

The applicable scientific papers are the following:

• Hessler, R., P.F. Lonsdale, and J. Hawkins (1988). Patterns on the ocean floor. New Scientist 24: 47-51.

• Hessler, R.R., and J.W. Martin (1989). Austinograea williamsi, new genus, new species, a hydrothermal vent crab (Decapoda: Bythograeidae) from the Mariana Back-Arc Basin, western Pacific. Journal of Crustacean Biology 9(4): 645-661.

• Hessler, R., and P.F. Lonsdale (1991). Biogeography of Mariana Trough hydrothermal vent communities. Deep-Sea Research 38(2): 185-199.

These corrections are also consistent with the most recent sonar mapping and ROV dives at the site, summarized in NOAA's FK151121 (2015) and FK161129 (2016) cruise reports, which are available at https://www.pmel.noaa.gov/eoi/marianas_site.html.

Mariana Trench Marine National Monument—Spelling Correction

In the Proclamation, two different spellings appeared for the Mariana Trench; this was also true for the accompanying map (i.e., “Mariana” and “Marianas” were used interchangeably). Undersea feature names are documented on the GEOnet Names Server, which was developed and is maintained by the National Geospatial-Intelligence Agency. “Mariana Trench” is the approved name in that database, whereas “Marianas Trench” is listed as a variant. This notice corrects the spelling “Marianas Trench Marine National Monument” to “Mariana Trench Marine National Monument” for consistency in official documents and other publications. This change is a clarification rather than a substantive change and has no substantive impact. The substance of the feature descriptions remains unchanged.

Authority

We provide this notice under section 2 of the Antiquities Act of June 8, 1906 (34 Stat. 225, 16 U.S.C. 431), the National Wildlife Refuge System Administration Act (16 U.S.C. 668dd et seq.), and the National Environmental Policy Act (42 U.S.C. 4321 et seq.).

Hugh Morrison,
Regional Director, Pacific Region.

[FR Doc. 2025-05802 Filed 4-3-25; 8:45 am]

BILLING CODE 4333-15-P